DEPARTMENT OF ENERGY

Federal Energy Regulatory Commission

[Docket No. RP99-301-006]

ANR Pipeline Company; Notice of Proposed Changes in FERC Gas Tariff

September 1, 2000.

Take notice that on August 29, 2000, ANR Pipeline company (ANR), tendered for filing, as part of its FERC Gas Tariff, Second Revised Volume No. 1, the following tariff sheet proposed to become effective August 28, 2000:

Original Sheet No. 14P

ANR states that it is filing the attached tariff sheet to reflect the implementation of a negotiated rate contract for Dynegy Marketing & Trade for service under Rate Schedule FSS. Dynegy's new contract will be effective August 28, 2000 and terminate on June 30, 2004. Furthermore, as further defined in Section 7D of FSS Service Agreement, Shipper shall have the right to extend the term of this Agreement through June 30, 2005. ANR requests that the Commission grant ANR any waivers of the Commission's regulations which are necessary in order to make this tariff sheet effective as of August 28, 2000, and to the extent necessary, moves pursuant to 18 C.F.R. 154.7(a)(9) for the tariff sheets to go into effect on said date. Additionally, ANR requests all such further relief as is appropriate.

ANR states that a copy of this filing is being mailed to the affected shipper and to each of ANR's FERC Gas Tariff, Second Revised Volume No. 1 and Original Volume No. 2 customers, and interested State Commission.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210. of the Commission's Regulations. Protests will be considered by the Commission in determining the appropriate action to be taken, but will not serve to make protestants parties to the proceedings. Any person wishing to become a party must file a motion to intervene, Copies of this filing are on file with the Commission and are available for public inspection in the Public Reference Room. This filing may be viewed on the web at http://www.ferc.fed.us/online/rims.htm (call 202-208-2222 for assistance).

Linwood A. Watson, Jr.,
Acting Secretary.

[FR Doc. 00-23058 Filed 9-7-00; 8:45 am]

BILLING CODE 6717-01-M